FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Office of Agreements (202-523-5793 or tradeanalysis@fmc.gov).

Agreement No.: 201177.

Title: Marine Terminal Services Agreement between Port of Houston Authority and Hapag-Lloyd AG.

Parties: Port of Houston Authority and Hapag-Lloyd AG.

Filing Party: Erik A. Eriksson, Esq.; General Counsel; Port of Houston Authority; P.O. Box 2562; Houston, TX 77252.

Synopsis: The agreement sets discounted rates and charges applicable to Hapag-Lloyd's container vessels calling at the port's facilities.

Dated: January 24, 2008.
By Order of the Federal Maritime Commission.
Karen V. Gregory,
Assistant Secretary.

[FR Doc. E8-1575 Filed 1-29-08; 8:45 am]

BILLING CODE 6730-01-P